SECURITIES AND EXCHANGE COMMISSION

[File No. 1-00434]

Issuer Delisting; Notice of Application of the Procter & Gamble Company To Withdraw Its Common Stock, $1.00 Par Value, From Listing and Registration on the National Stock Exchange

January 6, 2005.

On December 16, 2004, the Procter & Gamble Company, an Ohio corporation (“Issuer”) filed an application with the Securities and Exchange Commission (“Commission”), pursuant to section 12(d) of the Securities Exchange Act of 1934 (“Act”)¹ and Rule 12d2-2(d) thereunder,² to withdraw its common stock, $1.00 par value (“Security”), from listing and registration on the National Stock Exchange (“NSX”).

¹ 15 U.S.C. 78l(d).

² 17 CFR 240.12d2-2(d).

The Board of Directors (“Board”) of the Issuer approved a resolution on December 14, 2004 to withdraw the Issuer's Security from listing and registration on the NSX. The Board states that the following reasons factored into its decision to withdraw the Issuer's Security from the NSX; (i) the Security will remain listed on the New York Stock Exchange, Inc. (“NYSE”), which accounts for considerably higher trading volume than the NSX; (ii) maintenance of multiple listings requires significant time and expense in ensuring compliance with the rules and disclosure requirements of both exchanges; and (iii) the benefits of continued listing on the NSX do not outweigh the incremental cost and administrative burden.

The Issuer stated in its application that it has complied with the NSX's rules governing an issuer's voluntary withdrawal of a security from listing and registration.

The Issuer's application relates solely to the withdrawal of the Security from listing on the NSX, and shall not affect its continued listing on the NYSE or its registration under section 12(b) of the Act.³

³ 15 U.S.C. 78l(b).

Any interested person may, on or before February 2, 2005, comment on the facts bearing upon whether the application has been made in accordance with the rules of the NSX, and what terms, if any, should be imposed by the Commission for the protection of investors. All comment letters may be submitted by either of the following methods:

Electronic Comments

• Send an e-mail to rule-comments@sec.gov. Please include the File Number 1-00434 or;

Paper Comments

• Send paper comments in triplicate to Jonathan G. Katz, Secretary, Securities and Exchange Commission, 450 Fifth Street, NW., Washington, DC 20549-0609.

All submissions should refer to File Number 1-00434. This file number should be included on the subject line if e-mail is used. To help us process and review your comments more efficiently, please use only one method. The Commission will post all comments on the Commission's Internet Web site (http://www.sec.gov/rules/delist.shtml). Comments are also available for public inspection and copying in the Commission's Public Reference Room, 450 Fifth Street, NW., Washington, DC 20549. All comments received will be posted without change; we do not edit personal identifying information from submissions. You should submit only information that you wish to make available publicly.

The Commission, based on the information submitted to it, will issue an order granting the application after the date mentioned above, unless the Commission determines to order a hearing on the matter.

For the Commission, by the Division of Market Regulation, pursuant to delegated authority.⁴
⁴ 17 CFR 200.30-3(a)(1).
Jonathan G. Katz,
Secretary.

[FR Doc. E5-70 Filed 1-11-05; 8:45 am]

BILLING CODE 8010-01-P